DEPARTMENT OF STATE

[Public Notice 5512]

Advisory Committee on Transformational Diplomacy; Notice of Meeting

The Department of State announces a meeting of the Secretary of State's Advisory Committee on Transformational Diplomacy beginning on Wednesday September 6, 2006 and continuing on Thursday, September 7, 2006, at the U.S. Department of State at 2201 C Street, NW., Washington, DC. The Committee is composed of a group of prominent Americans from the private sector and academia who provide the Department with advice on its worldwide management operations, including structuring, leading, and managing large global enterprises, communicating governmental missions and policies to relevant publics, and better use of information technology.

The Committee will meet in open session from 5 p.m. to 6:45 p.m. on September 6, 2006. The Committee also will meet in open session from 8:15 a.m. until 12 p.m. on September 7, 2006. The Committee will meet in closed session from 12 p.m. to 12:30 p.m. It has been determined that this portion of the meeting will be closed to the public pursuant to Section 10(d) of the Federal Advisory Committee Act and 5 U.S.C. 552b[c][1] and 552b[c][4] because it is likely to involve discussion of classified information and may involve discussion of confidential business information.

The agenda for the September 6 open session will include an overview briefing about the Department of State and its mission. The agenda for the September 7 open session will include briefings on Public/Private Partnership Models, Workforce and Training, the State Department in 2012, Congressional Interaction, the Embassy of the Future and discussion on establishing working groups for the Committee. The agenda for the September 7 closed session will include matters related to the transformational diplomacy initiative.

Entry to the building is controlled and will be facilitated by advance arrangements. Members of the public (including government employees and Department of State employees) desiring access to the open sessions should, no later than September 1, 2006, notify the Advisory Committee on Transformational Diplomacy (phone: 202-647-0093) of their name, date of birth; citizenship (country); ID number, i.e., U.S. government ID (agency), U.S. military ID (branch), passport (country), or drivers license number (state); professional affiliation, address, and telephone number.

Members of the public may file a written statement with the committee. All members of the public must use the “C” Street entrance, after going through the exterior screening facilities. One of the following valid IDs will be required for admittance: Any U.S. driver's license with photo, a passport, or a U.S. Government agency ID. Because an escort is required at all times, attendees should expect to remain in the meeting for the entire session.

The Department of State regrets the delay in publication of this Notice. Unforeseen events prevented its earlier publication and the meeting date was determined by the rigorous demands of the Secretary of State's travel, foreign policy and public affairs schedule.

For more information, contact Madelyn Marchessault, Designated Federal Official of the Advisory Committee on Transformational Diplomacy at 202-647-0093 or at Marchessaultms@state.gov.

Dated: August 25, 2006.
Marguerite Coffey,
Acting Director, Office of Management Policy, Department of State.

[FR Doc. 06-7344 Filed 8-30-06; 8:45 am]

BILLING CODE 4710-35-P